DEPARTMENT OF AGRICULTURE

Forest Service

Ochoco National Forest, Lookout Mountain Ranger District; Oregon; Howard Elliot Johnson Fuels and Vegetation Management Project EIS

AGENCY: Forest Service, USDA.

ACTION: Notice of intent to prepare an environmental impact statement.

SUMMARY: The Ochoco National Forest is preparing an environmental impact statement (EIS) to analyze the effects of managing fuels and vegetation within the 44,858-acre Howard Elliot Johnson project area, which is approximately 23 miles east of Prineville, Oregon. The project area includes National Forest and Bureau of Land Management System lands in the Howard, Elliot, and Johnson subwatersheds. The alternatives that will be analyzed include the proposed action, no action, and additional alternatives that respond to issues generated through the scoping process. The Ochoco National Forest will give notice of the full environmental analysis and decisionmaking process so interested and affected people may participate and contribute to the final decision.

DATES: Comments concerning the scope of the analysis must be received by August 23, 2010. The draft environmental impact statement is expected to be completed and available for public comment in December, 2010. The final environmental impact statement is expected to be completed in May, 2011.

ADDRESSES: Send written comments to Maurice Evans, Acting District Ranger, Lookout Mountain District, Ochoco National Forest, 3160 NE. Third Street, Prineville, Oregon 97754.

Alternately, electronic comments may be sent to comments-pacificnorthwestochoco@fs.fed.us. Electronic comments must be submitted as part of the actual e-mail message, or as an attachment in plain text (.txt), Microsoft Word (.doc), rich text format (.rtf), or portable document format (.pdf).

FOR FURTHER INFORMATION CONTACT: Kristy Swartz, Project Leader, or Marcy Anderson, Environmental Coordinator, at 3160 NE. Third Street, Prineville, Oregon 97754, or at (541) 416-6500, or by e-mail at Kristy_swartz@blm.gov or marcelleanderson@fs.fed.us.

Responsible Official: The responsible official will be Jeff Walter, Forest Supervisor, Ochoco National Forest, 3160 NE. Third Street, Prineville, Oregon 97754.

SUPPLEMENTARY INFORMATION:

Purpose and Need. The Lookout Mountain Ranger District has determined that there is a need for fuels and vegetation management activities in the project area by comparing the existing condition to the desired conditions described in the Ochoco National Forest Land and Resource Management Plan. The existing condition of the Howard, Elliot, and Johnson subwatersheds was evaluated in 2004 and documented in the Howard Elliot Johnson Watershed Analysis. Generally speaking, the Watershed Analysis determined that vegetation condition in the subwatersheds has departed from the historic condition in several ways. Important departures include changes in timber species compositions, a reduction in single-stratum late and old structured forest (LOS), an increased risk of large-scale loss of forest to wildfire, an increased risk of insect infestation and/or disease that can impact timber stands, and a decline in the condition of riparian vegetation.

The purpose and need for this proposal is to (1) Maintain and increase the abundance of late and old structure (LOS) stands, especially single-stratum LOS. (2) Reduce wildfire hazard within areas identified as “at risk of loss.” (3) Outside of areas identified as “at risk of loss,” maintain or restore vegetative and fuel conditions within historic ranges of species composition, structure, and condition. (4) Reduce the susceptibility of the landscape to infestation by insects and disease. (5) Enhance hardwood communities, such as aspen and cottonwood. (6) Increase riparian vegetation and large tree structure in Riparian Habitat Conservation Areas (RHCAs).

Proposed Action. The proposed action includes a variety of management strategies and activities, including commercial harvest with follow-up precommercial thinning and/or slash treatment (4,138 acres), precommercial thinning with slash treatment (2,712 acres), juniper cutting with slash treatment (1,204 acres), hardwood and riparian vegetation treatment (658 acres), underburning where no other treatments are proposed (8,705 acres), riparian planting with no other treatment (35 acres). Implementation of the proposed action would require the following connected actions: reconstruction of approximately four miles of existing roads and construction of approximately 15 miles of temporary roads that would be obliterated upon conclusion of project activities. No new permanent roads would be constructed.

Seed tree harvest (198 acres) and shelterwood harvest (71 acres) is proposed in nine units ranging in size from 6 to 78 acres. These treatments would occur in stands that are impacted heavily by insects and disease and are at high risk of stand replacement wildfire. These units will continue to decline and will not move toward desired conditions until a stand replacement event occurs. Regeneration of these units would allow for the establishment of a healthy stand of early seral trees, which could then move towards the desired conditions. Regeneration treatments in late and old structure stands would require a forest plan amendment.

Issues. Preliminary issues identified include the potential effects of the proposed action on wildlife habitat, water quality, fish habitat, visual quality, and recreational use. In addition, the interdisciplinary planning team will analyze the cumulative effects of this proposed action where it overlaps with the effects of other activities.

Comment. Public comments about this proposal are requested in order to assist in identifying issues, determine how to best manage the resources, and to focus the analysis. Comments received in response to this notice, including names and addresses of those who comment, will be considered part of the public record on this proposed action and will be available for public inspection. Comments submitted anonymously will be accepted and considered; however, those who submit anonymous comments will not have standing to appeal the subsequent decision under 36 CFR parts 215 and 217.

Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied; the agency will return the submission and notify the requester that the comments may be resubmitted with or without name and address within a specified number of days.

A draft ETS will be filed with the Environmental Protection Agency (EPA) and available for public review by December, 2010. The EPA will publish a Notice of Availability (NOA) of the draft EIS in the Federal Register. The final EIS is scheduled to be available May, 2011.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft ETS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Ochoco National Forest. The responsible official will decide whether and how to conduct fuels and vegetation management activities in the Howard Elliot Johnson planning area. The responsible official will also decide how to mitigate impacts of these actions and will determine when and how monitoring of effects will take place.

The Howard Elliot Johnson Fuels and Vegetation Management Project decision and the reasons for the decision will be documented in the record of decision. That decision will be subject to Forest Service Appeal Regulations (35 CFR part 215).

Dated: July 15, 2010.
Maurice Evans,
Acting District Ranger.

[FR Doc. 2010-17803 Filed 7-22-10; 8:45 am]

BILLING CODE 3410-11-M